DEPARTMENT OF DEFENSE

GENERAL SERVICES ADMINISTRATION

NATIONAL AERONAUTICS AND SPACE ADMINISTRATION

[OMB Control No. 9000-0013; Docket No. 2023-0053; Sequence No. 11]

Submission for OMB Review; Certified Cost or Pricing Data and Data Other Than Certified Cost or Pricing Data

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding certified cost or pricing data and data other than certified cost or pricing data.

DATES: Submit comments on or before March 27, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s):

OMB Control No. 9000-0013, Certified Cost or Pricing Data and Data Other Than Certified Cost or Pricing Data.

B. Need and Uses

The Truth in Negotiations Act, 10 U.S.C. chapter 271 and 41 U.S.C. chapter 35, requires the Government to obtain certified cost or pricing data from contractors prior to the award of certain contract actions. Contractors may be exempt from this requirement under certain conditions. This clearance covers the information that offerors or contractors must submit to comply with the following FAR requirements:

• FAR 52.214-28, Subcontractor Certified Cost or Pricing Data-Modifications-Sealed Bidding. When contracting by sealed bidding, this clause requires contractors to require subcontractors to submit certified cost or pricing data for a modification involving aggregate increases and/or decreases in costs, plus applicable profits, expected to exceed the threshold for submission of certified cost or pricing data at FAR 15.403-4(a)(1).

• FAR 52.215-12, Subcontractor Certified Cost or Pricing Data. When contracting by negotiation, this clause requires contractors to require subcontractors to submit certified cost or pricing data.

• FAR 52.215-13, Subcontractor Certified Cost or Pricing Data—Modifications. When contracting by negotiation, this clause requires contractors to require subcontractors to submit certified cost or pricing data for a modification involving a pricing adjustment expected to exceed the threshold for submission of certified cost or pricing data at FAR 15.403-4(a)(1).

• FAR 52.215-20, Requirements for Certified Cost or Pricing Data and Data Other Than Certified Cost or Pricing Data. When contracting by negotiation, this provision requires offerors, if not granted an exception, to prepare and submit certified cost or pricing data, data other than certified cost or pricing data, and supporting attachments in accordance with the instructions contained in Table 15-2 of FAR 15.408, unless the contracting officer and the contractor agree to a different format.

• FAR 52.215-21, Requirements for Certified Cost or Pricing Data and Data Other Than Certified Cost or Pricing Data—Modifications. When contracting by negotiation, this clause requires contractors, if not granted an exception, to submit, for a modification or price adjustment expected to exceed the threshold set forth at FAR 15.403-4(a)(1), certified cost or pricing data, data other than certified cost or pricing data, and supporting attachments in accordance with the instructions contained in Table 15-2 of FAR 15.408, unless the contracting officer and the contractor agree to a different format.

Certified cost or pricing data is used by agencies to assure that contract prices and any subsequent contract modifications are fair and reasonable.

C. Annual Burden

Respondents: 17,704.

Total Annual Responses: 53,966.

Total Burden Hours: 2,878,033.

D. Public Comment

A 60-day notice was published in the Federal Register at 88 FR 87427, on December 18, 2023. No comments were received.

Obtaining Copies: Requesters may obtain a copy of the information collection documents from the GSA Regulatory Secretariat Division, by calling 202-501-4755 or emailing GSARegSec@gsa.gov. Please cite OMB Control No. 9000-0013, Certified Cost or Pricing Data and Data Other Than Certified Cost or Pricing Data.

Janet Fry,
Director, Federal Acquisition Policy Division, Office of Governmentwide Acquisition Policy, Office of Acquisition Policy, Office of Governmentwide Policy.

[FR Doc. 2024-03769 Filed 2-23-24; 8:45 am]

BILLING CODE 6820-EP-P